ENVIRONMENTAL PROTECTION AGENCY

[EPA-HQ-OARM-2011-0997; FRL-9939-93-OEI]

Information Collection Request Submitted to OMB for Review and Approval; Comment Request; Recordkeeping and Reporting Related to RFS2 Voluntary RIN Quality Assurance Program (Renewal)

AGENCY: Environmental Protection Agency (EPA).

ACTION: Notice.

SUMMARY: The Environmental Protection Agency has submitted an information collection request (ICR), “Recordkeeping and Reporting Related to RFS2 Voluntary RIN Quality Assurance Program” (EPA ICR No. 2473.03, OMB Control No. 2060-0688) to the Office of Management and Budget (OMB) for review and approval in accordance with the Paperwork Reduction Act (44 U.S.C. 3501 et seq.). This is a proposed revision of the ICR, which is currently approved through 12/31/2017. Public comments were previously requested via the Federal Register (80 FR 30455) on May 28, 2015 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before March 14, 2016.

ADDRESSES: Submit your comments, referencing Docket ID Number EPA-HQ-OAR-2005-1121, to (1) EPA online using www.regulations.gov (our preferred method), by email to a-and-r-Docket@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Geanetta Heard, Fuel Compliance Center, 64106J, Environmental Protection Agency, 1200 Pennsylvania Ave. NW., Washington, DC 20460; telephone number: 202-343-9017; fax number: 202-565-2085; email address: heard.geanetta@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: The Renewable Fuel Standard (RFS) program began in 2006 pursuant to the requirements in the Clean Air Act (CAA) section 211(o) which were added through the Energy Policy Act of 2005 (EPAct). The statutory requirements for the RFS program were subsequently modified through the Energy Independence and Security act of 2007 (EISA), resulting in the promulgation of major revisions to the regulatory requirements on March 26, 2010. The RFS program requires that specified volumes of renewable fuel be used as transportation fuel, heating oil, and/or jet fuel each year. To accomplish this, the Environmental Protection Agency (EPA) publishes applicable percentage standards annually that apply to the sum of all gasoline and diesel produced or imported. Obligated parties demonstrate compliance with the standards through the acquisition of unique Renewable Identification Numbers (RINs) assigned by the producer or importer to every batch of renewable fuel produced or imported. This regulation will help EPA to monitor compliance with the RFS program and will ensure that the RIN system operates as originally intended. The data generated by the Quality Assurance Plan (QAP) program will assist obligated parties and smaller renewable fuel producers to comply with the requirements of the RFS program by supporting the validity of RINs.

Form Numbers: EPA Forms 5900-354, 5900-355, 5900-356, 5900-323, 5900-357, 5900-358, 5900-359, 5900-360, and 5900-361.

Respondents/affected entities:

Respondent's obligation to respond: Voluntary (40 CFR part 80).

Estimated number of respondents: 1,222 (total).

Frequency of response: Quarterly, yearly and semiannually.

Total estimated burden: 26,830 hours (per year). Burden is defined at 5 CFR 1320.03(b).

Total estimated cost: $2,984,207 (per year), includes $0 annualized capital or operation & maintenance costs.

Changes in the Estimates: There is a decrease of 236,914 hours in the total estimated respondent burden compared with the ICR currently approved by OMB. This is due to a reduction in burden hours due to EMTS system's automation structure.

Courtney Kerwin,
Acting Director, Collection Strategies Division.

[FR Doc. 2016-02921 Filed 2-11-16; 8:45 am]

BILLING CODE 6560-50-P